DEPARTMENT OF COMMERCE

National Oceanic and Atmospheric Administration

RIN 0648-XK06

Endangered Species; File No. 10115

AGENCY: National Marine Fisheries Service (NMFS), National Oceanic and Atmospheric Administration (NOAA), Commerce.

ACTION: Issuance of permit.

SUMMARY: Notice is hereby given that Dr. Douglas Peterson, Warnell School of Forest Resources (Fisheries Division), University of Georgia, Athens, Georgia 30602, has been issued a permit to take shortnose sturgeon (Acipenser brevirostrum) for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Ave South, St. Petersburg, FL 33701; phone (727)824-5312; fax (727)824-5309.

FOR FURTHER INFORMATION CONTACT: Malcolm Mohead or Brandy Belmas, (301)713-2289.

SUPPLEMENTARY INFORMATION: On February 21, 2008, notice was published in the Federal Register (73 FR 9525) that a request for a scientific research permit to take shortnose sturgeon had been submitted by the above-named individual. The requested permit has been issued under the authority of the Endangered Species Act of 1973, as amended (ESA; 16 U.S.C. 1531 et seq.) and the regulations governing the taking, importing, and exporting of endangered and threatened species (50 CFR parts 222-226).

Dr. Douglas Peterson is authorized to conduct a five-year scientific research (presence/absence) study of shortnose sturgeon in the Saint Marys and Satilla Rivers, Georgia and Florida. The purpose of the proposed research is to assess the current status of shortnose sturgeon in these rivers, as well as evaluate the current habitat availability in each river. If shortnose sturgeon are found, another objective of the research will be to quantify the genetic discreteness and effective population size of the extant stock.

Specifically, Dr. Peterson is authorized to capture (by gill or trammel nets), handle, measure, weigh, PIT tag, and genetic fin clip up to 85 shortnose sturgeon annually from each river for the duration of the permit, or five years. To document spawning in the rivers, up to 20 eggs or larvae may be lethally collected in each river with artificial substrates. No unintentional mortality for either river is authorized.

Issuance of this permit, as required by the ESA, was based on a finding that such permit (1) was applied for in good faith, (2) will not operate to the disadvantage of such endangered or threatened species, and (3) is consistent with the purposes and policies set forth in section 2 of the ESA.

Dated: August 25, 2008.
P. Michael Payne,
Chief, Permits, Conservation and Education Division, Office of Protected Resources, National Marine Fisheries Service.

[FR Doc. E8-20163 Filed 8-28-08; 8:45 am]

BILLING CODE 3510-22-S